DEPARTMENT OF AGRICULTURE

Forest Service

Southern Region Recreation Resource Advisory Committee

AGENCY: Forest Service, USDA.

ACTION: Notice of meeting.

SUMMARY: The Southern Region Recreation Resource Advisory Committee (Recreation RAC) will hold its next meeting in Asheville, North Carolina. The meeting is open to the public. The purpose of the meeting is to receive recommendations concerning recreation fee proposals on areas managed by the Forest Service in Florida, Georgia, Arkansas, Oklahoma, North Carolina, Texas and South Carolina. A summary of the proposals that may be discussed at this meeting will be posted at least 15 days prior to the meeting at https://www.fs.usda.gov/main/r8/recreation/racs.

The Southern Region Recreation RAC is established consistent with the Federal Advisory Committee Act of 1972 (FACA) (5 U.S.C. App. II), and Federal Lands Recreation Enhancement Act of 2004 (the Act) (Pub. L. 108-447). Additional information concerning the Southern Region Recreation RAC can be found by visiting the committee's website noted above.

DATES: The meeting will be held August 27 and August 28, 2018, 8:30 a.m.-5:30 p.m. Eastern Standard Time. All Recreation RAC meetings are subject to cancellation. For status of the meeting, please contact the FOR FURTHER INFORMATION CONTACT.

ADDRESSES: The meeting will be held in Asheville, North Carolina and the address of the meeting location will be posted on the committee's website: https://www.fs.usda.gov/main/r8/recreation/racs at least 15 days before the meeting. When possible, the meeting will be available via teleconference at 1-888-844-9904, participant code 1482357. Portions of the meeting may be field-based with limited phone coverage, in which case the teleconference will not be available.

FOR FURTHER INFORMATION CONTACT: Tiffany Williams, Southern Region Recreation RAC Coordinator by phone at 404-347-2769, or by email at r8_rrac@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. An agenda will be posted on https://www.fs.usda.gov/main/r8/recreation/racs at least 7 days prior to the meeting. Anyone who would like to bring related matters to the attention of the committee may provide written or oral comments. Written comments should be submitted to Chris Sporl, Designated Federal Official for the Southern Recreation RAC, U.S. Forest Service, 1720 Peachtree Road NW, Atlanta, GA 30309, or r8_rrac@fs.fed.us at least 5 days prior to the meeting.

All comments, including names and addresses, when provided, are placed in the record and available for public inspection and copying. The public may inspect comments at the USDA Forest Service, 1720 Peachtree Road NW, Atlanta, GA 30309. Visitors are encouraged to call ahead at 404-347-2769 to facilitate entry into the USDA Forest Service building.

Meeting Accommodations: If you require reasonable accommodation, please make your request in advance for sign language interpreting, assistive listening devices, or other reasonable accommodation, please request this in advance of the meeting by contacting the person listed in the section titled FOR FURTHER INFORMATION CONTACT. All reasonable accommodation requests are managed on a case by case basis.

Dated: August 2, 2018.
Chris Iverson,
Acting Associate Deputy Chief, National Forest System.

[FR Doc. 2018-17134 Filed 8-9-18; 8:45 am]

BILLING CODE 3411-15-P